DEPARTMENT OF DEFENSE

Department of the Army

[Docket ID USA-2022-HQ-0016]

Submission for OMB Review; Comment Request

AGENCY: Department of the Army, Department of Defense (DoD).

ACTION: 30-Day information collection notice.

SUMMARY: The DoD has submitted to the Office of Management and Budget (OMB) for clearance the following proposal for collection of information under the provisions of the Paperwork Reduction Act.

DATES: Consideration will be given to all comments received by January 23, 2023.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Angela Duncan, 571-372-7574, whs.mc-alex.esd.mbx.dd-dod-information-collections@mail.mil.

SUPPLEMENTARY INFORMATION:

Title; Associated Form; and OMB Number: Application for Army Radiation Permit; OMB Control Number 0702-0109.

Type of Request: Revision.

Number of Respondents: 235.

Responses per Respondent: 1.

Annual Responses: 235.

Average Burden per Response: 2 hours.

Annual Burden Hours: 470.

Needs and Uses: In accordance with 32 CFR 655.10, Army Radiation Permits (ARPs) are required for use, storage, or possession of ionizing radiation sources by non-Army entities on an Army installation. For the purpose of this information collection request and the authorizing regulation, “ionizing radiation source” means any source that, if held or owned by an Army organization, would require a specific Nuclear Regulatory Commission license or Army Radiation Authorization. Such use, storage, or possession of ionizing radiation sources must be in connection with an activity of the Department of Defense or in connection with a service to be performed on the installation for the benefit of the Department of Defense, in accordance with 10 U.S.C. 2692(b)(1). The information required to grant an ARP is necessary to protect the public, civilian employees, and military personnel on an installation from potential exposure to radioactive sources. The ARP allows the installation to maintain cognizance over the presence of radioactive sources on the installation. Cognizance is necessary to ensure emergency responders are properly notified and prepared to deal with the radioactive materials when necessary, ensure other proper protective controls are maintained, and to ensure proper removal of the radioactive materials from the installation when no longer required. Approval by the garrison commander is required to obtain an Army radiation permit. Additional implementing procedures are outlined in Department of the Army Pamphlet 385-24, “Army Radiation Safety Program.”

Affected Public: Business or other for-profit.

Frequency: On occasion.

Respondent's Obligation: Required to Obtain or Retain Benefits.

OMB Deck Officer: Ms. Jasmeet Seehra.

You may also submit comments and recommendations, identified by Docket ID number and title, by the following method:

• Federal eRulemaking Portal: http://www.regulations.gov. Follow the instructions for submitting comments.

Instructions: All submissions received must include the agency name, Docket ID number, and title for this Federal Register document. The general policy for comments and other submissions from members of the public is to make these submissions available for public viewing on the internet at http://www.regulations.gov as they are received without change, including any personal identifiers or contact information.

DoD Clearance Officer: Ms. Angela Duncan.

Requests for copies of the information collection proposal should be sent to Ms. Duncan at whs.mc-alex.esd.mbx.dd-dod-information-collections@mail.mil.

Dated: December 20, 2022.
Aaron T. Siegel,
Alternate OSD Federal Register Liaison Officer, Department of Defense.

[FR Doc. 2022-28022 Filed 12-22-22; 8:45 am]

BILLING CODE 5001-06-P